ENVIRONMENTAL PROTECTION AGENCY

40 CFR Part 52

[EPA-R05-OAR-2016-0138; FRL-9978-43—Region 5]

Air Plan Approval; Illinois; Nonattainment Plans for the Lemont and Pekin SO2 Nonattainment Areas; Correction

AGENCY: Environmental Protection Agency (EPA).

ACTION: Final rule; correcting amendment.

SUMMARY: This document corrects an error in the amendatory instruction in a final rule pertaining to the sulfur dioxide (SO2) nonattainment plans for the Lemont and Pekin areas.

DATES: This final rule is effective on May 29, 2018.

FOR FURTHER INFORMATION CONTACT: John Summerhays, Environmental Scientist, Attainment Planning and Maintenance Section, Air Programs Branch (AR-18J), Environmental Protection Agency, Region 5, 77 West Jackson Boulevard, Chicago, Illinois 60604, (312) 886-6067, Summerhays.john@epa.gov.

SUPPLEMENTARY INFORMATION: On February 1, 2018 (83 FR 4591), EPA published a final rule approving Illinois' plans addressing nonattainment area planning requirements for SO2 for the Lemont and Pekin areas, plans that include numerous state regulations. However, the codification of that action listed only a subset of the regulations in Illinois' plans. This document corrects the erroneous amendatory language by clarifying the complete set of regulations in Illinois plans that have been approved.

Correction

In the final rule published in the Federal Register on February 1, 2018 (83 FR 4591), the rules listed as approved on page 4594 included only Subpart B sections 214.121 and 214.122, Subpart D section 214.161, and Subpart AA sections 214.600, 214.601, 214.602, 214.603, 214.604, and 214.605. To codify the complete list of rules in the plan that EPA approved, EPA is correcting the codification to include the omitted rules, namely Subpart A sections 214.101, 214.102, 214.103, and 214.104, Subpart D section 214.162, Subpart F section 214.201, Subpart K sections 214.300 and 214.305, and Subpart Q section 214.421. The codification section of this action specifies the corrected listing for this codification, listing all of the rules that should have been identified as approved and including the appropriate citation for these approvals.

Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because we are merely correcting an incorrect citation in a previous action. Thus, notice and public procedure are unnecessary. We find that this constitutes good cause under 5 U.S.C. 553(b)(B).

Statutory and Executive Order Reviews

Under Executive Order (E.O.) 12866 (58 FR 51735, October 4, 1993), this action is not a “significant regulatory action” and is therefore not subject to review by the Office of Management and Budget. For this reason, this action is also not subject to E.O. 13211, “Actions Concerning Regulations That Significantly Affect Energy Supply, Distribution, or Use” (66 FR 28355, May 22, 2001). This action is not an E.O. 13771 (82 FR 9339, February 2, 2017) regulatory action because this action is not significant under E.O. 12866. Because the agency has made a “good cause” finding that this action is not subject to notice-and-comment requirements under the Administrative Procedures Act or any other statute as indicated in the Supplementary Information section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. In addition, the SIP is not approved to apply on any Indian reservation land or in any other area where EPA or an Indian tribe has demonstrated that a tribe has jurisdiction. In those areas of Indian country, the rule does not have tribal implications and will not impose substantial direct costs on tribal governments or preempt tribal law as specified by E.O. 13175 (65 FR 67249, November 9, 2000). This rule will not have substantial direct effects on the States, on the relationship between the National Government and the States, or on the distribution of power and responsibilities among the various levels of governments, as specified by E.O. 13132 (64 FR 43255, August 10, 1999). This rule also is not subject to E.O. 13045 (62 FR 19885, April 23, 1997), because it is not economically significant.

This technical correction action does not involve technical standards; thus the requirements of section 12(d) of the National Technology Transfer and Advancement Act of 1995 (15 U.S.C. 272 note) do not apply. The rule also does not involve special consideration of environmental justice related issues as required by E.O. 12898 (59 FR 7629, February 16, 1994). In issuing this rule, EPA has taken the necessary steps to eliminate drafting errors and ambiguity, minimize potential litigation, and provide a clear legal standard for affected conduct, as required by section 3 of E.O. 12988 (61 FR 4729, February 7, 1996). EPA has complied with E.O. 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of May 29, 2018. EPA will submit a report containing this rule and other required information to the U.S. Senate, the U.S. House of Representatives, and the Comptroller General of the United States prior to publication of the rule in the Federal Register. This correction to 40 CFR 52 for Illinois is not a “major rule” as defined by 5 U.S.C. 804(2).

List of Subjects in 40 CFR Part 52

Environmental protection, Air pollution control, Incorporation by reference, Intergovernmental relations, Reporting and recordkeeping requirements, Sulfur oxides.

Dated: May 10, 2018.
Cathy Stepp,
Regional Administrator, Region 5.

Accordingly, 40 CFR part 52 is corrected by making the following correcting amendments:

PART 52—APPROVAL AND PROMULGATION OF IMPLEMENTATION PLANS

1. The authority citation for part 52 continues to read as follows:

Authority: 42 U.S.C. 7401 et seq.

2. In § 52.720 amend the table in paragraph (c) under “Part 214: Sulfur Limitations” by:

a. Revising the entries for “214.101”, “214.102” and “214.104”, and adding an entry for “214.103” in numerical order under “Subpart A: General Provisions”;

b. Revising the entry for “214.162” under “Subpart D: Existing Liquid or Mixed Fuel Combustion Emission Sources”;

c. Revising the entry for “214.201” under “Subpart F: Alternative Standards for Sources Inside Metropolitan Areas”;

d. Adding two entries for “214.300” and “214.305” under “Subpart K: Process Emission Sources” in numerical order;

e. Adding a subheading entitled “Subpart Q: Primary and Secondary Metal Manufacturing” in alphabetical order, including an entry for “214.421”.

The additions and revisions read as follows:

§ 52.720 Identification of plan.

* * * * *

(c) * * *

EPA-Approved Illinois Regulations and Statutes
Illinois citation | Title/subject | State effective date | EPA approval date | Comments
* * * * * * *
Part 214: Sulfur Limitations
Subpart A: General Provisions
214.101 | Measurement Methods | 12/7/2015 | 2/1/2018, 83 FR 4591 |
214.102 | Abbreviations and Units | 12/7/2015 | 2/1/2018, 83 FR 4591 |
214.103 | Definitions | 12/7/2015 | 2/1/2018, 83 FR 4591 |
214.104 | Incorporations by Reference | 12/7/2015 | 2/1/2018, 83 FR 4591 |
* * * * * * *
Subpart D: Existing Liquid or Mixed Fuel Combustion Emission Sources
* * * * * * *
214.162 | Combination of Fuels | 12/7/2015 | 2/1/2018, 83 FR 4591 |
* * * * * * *
Subpart F: Alternative Standards for Sources Inside Metropolitan Areas
214.201 | Alternative Standards for Sources in Metropolitan Areas | 12/7/2015 | 2/1/2018, 83 FR 4591 |
* * * * * * *
Subpart K: Process Emission Sources
214.300 | Scope | 12/7/2015 | 2/1/2018, 83 FR 4591 |
* * * * * * *
214.305 | Fuel Sulfur Content Limitations | 12/7/2015 | 2/1/2018, 83 FR 4591 |
* * * * * * *
Subpart Q: Primary and Secondary Metal Manufacturing
214.421 | Combination of Fuels at Steel Mills in Metropolitan Areas | 12/7/2015 | 2/1/2018, 83 FR 4591 |
* * * * * * *

* * * * *

[FR Doc. 2018-11324 Filed 5-25-18; 8:45 am]

BILLING CODE 6560-50-P